DEPARTMENT OF ENERGY

Office of Energy Efficiency and Renewable Energy

10 CFR Part 431

[Docket No. EE-RM/STD-00-100]

RIN 1904-AB06

Energy Efficiency Program for Commercial and Industrial Equipment: Efficiency Standards for Commercial Heating, Air Conditioning and Water Heating Equipment

AGENCY: Office of Energy Efficiency and Renewable Energy, Department of Energy.

ACTION: Notice of document availability and public workshop.

SUMMARY: The Energy Policy and Conservation Act, as amended, establishes energy efficiency standards for certain commercial heating, air conditioning and water heating equipment and requires the Department (DOE, Department or we) to administer an energy conservation program for these products. On October 29, 1999, the American Society of Heating, Refrigerating and Air-Conditioning Engineers, Inc. (ASHRAE) and Illuminating Engineering Society of North America (IES) revised ASHRAE/IES Standard 90.1, which contains efficiency standards for these products. This notice announces availability of the report of the Screening Analysis the Department has undertaken to assess what action it should take with respect to the efficiency levels now contained in ASHRAE/IES Standard 90.1. The Department invites comments and is convening a public workshop on its preliminary conclusions, on the analysis, and on any additional considerations that might affect the Department's decisions on which standards to adopt or reject without further analysis, and which to consider further.

DATES: The Department must receive written comments on or before July 31, 2000. The Department requests ten (10) copies of the written comments and, if possible, an electronic copy (3½” diskette) in a form accessible to WordPerfect™ 8. Oral views, data and arguments may be presented at the public workshop to be held in Washington, DC, beginning at 9:30 a.m. on July 11, 2000.

The Department must receive (1) requests to speak at the workshop no later than 4:00 p.m., June 23, 2000, and (2) copies of statements to be given at the public workshop no later than 4:00 p.m., June 30, 2000. The length of each oral presentation is limited to 15 minutes.

ADDRESSES: The workshop will be held at the U.S. Department of Energy, Forrestal Building, Room 1E-245, 1000 Independence Avenue, SW, Washington, DC. Written comments, statements, and requests to speak at the workshop are to be submitted to Ms. Brenda Edwards-Jones, U.S. Department of Energy, Office of Energy Efficiency and Renewable Energy, EE-41, 1000 Independence Avenue, SW, Washington, DC 20585. You should identify all such documents both on the envelope and on the documents as “Energy Conservation Program for Commercial Equipment: Screening Analysis for Commercial HVAC Standards, Docket No. EE-RM/STD-00-100.”

You can read the Screening Analysis report and public comments received in the Freedom of Information Reading Room (Room No. 1E-190) at the U.S. Department of Energy, Forrestal Building, 1000 Independence Avenue, SW, Washington, DC 20585, between the hours of 9:00 a.m. and 4:00 p.m., Monday through Friday, except Federal holidays. You can also obtain the Screening Analysis report electronically from the Office of Building Research and Standards world wide web site at the following URL address: [http://www.eren.doe.gov/buildings/codes_standards/index.htm].

The Screening Analysis report and this notice both refer to certain industry standards established by ASHRAE and IES. These industry standards are referenced hereafter by the single comprehensive title “ASHRAE/IES Standard 90.1-1999.” You can view this standard at the Department of Energy's Freedom of Information Reading Room at the address stated above. You can also obtain copies from the American Society of Heating, Refrigerating, and Air-Conditioning Engineers, Inc., 1971 Tullie Circle, NE, Atlanta, GA 30329, and you can obtain them electronically at ASHRAE's web site, [http://www.ashrae.org/book/bookshop.htm].

FOR FURTHER INFORMATION CONTACT: Cyrus H. Nasseri, U.S. Department of Energy, Office of Energy Efficiency and Renewable Energy, Mail Station, EE-41, 1000 Independence Avenue, SW, Washington, DC 20585, (202) 586-9138, FAX (202) 586-4617, e-mail: Cyrus.Nasseri@ee.doe.gov, or Edward Levy, Esq., U.S. Department of Energy, Office of General Counsel, Mail Station, GC-72, 1000 Independence Avenue, SW, Washington, DC 20585, (202) 586-9507, e-mail: Edward.Levy@hq.doe.gov.

SUPPLEMENTARY INFORMATION:

I. Introduction

A. Authority

B. Background

1. General

2. ASHRAE Action

3. Department of Energy Response

II. Discussion

A. Screening Analysis Results

B. DOE Interpretation

C. Products Not Included in the Screening Analysis

D. Summary

III. Public Comment

A. Written Comment Procedures

B. Issues on Which Comments are Requested

C. Public Workshop

1. Procedure for Submitting Requests to Speak

2. Conduct of Workshop

I. Introduction

A. Authority

Part B of Title III of the Energy Policy and Conservation Act (EPCA) of 1975, Public Law 94-163, as amended, by the National Energy Conservation Policy Act of 1978 (NECPA), Pub. L. 95-619, the National Appliance Energy Conservation Act of 1987 (NAECA), Pub. L. 100-12, the National Appliance Energy Conservation Amendments of 1988 (NAECA 1988), Pub. L. 100-357, and the Energy Policy Act of 1992 (EPACT), Pub. L. 102-486, established the Energy Conservation Program for Consumer Products other than Automobiles. Part 3 of Title IV of NECPA amended EPCA to add “Energy Efficiency of Industrial Equipment,” which included air conditioners, furnaces, and other types of equipment.

EPACT also amended EPCA with respect to industrial equipment, providing definitions, test procedures, labeling provisions, energy conservation standards, and authority to require information and reports from manufacturers. 42 U.S.C. 6311-6316. For example, EPCA specifies explicit minimum energy efficiency levels for certain commercial packaged air conditioning and heating equipment, packaged terminal air conditioners and heat pumps, warm air furnaces, packaged boilers, water heaters and unfired hot water storage tanks. 42 U.S.C. 6313(a)(1)-(5). The efficiency requirements in the statute correspond to the levels in ASHRAE/IES Standard 90.1 as in effect on October 24, 1992. The statute further provides that if the efficiency levels in ASHRAE/IES Standard 90.1 are amended after that date for any of the covered equipment, the Secretary of Energy must establish an amended uniform national standard at the new minimum level for each effective date specified in ASHRAE/IES Standard 90.1, unless (s)he determines, through a rulemaking supported by clear and convincing evidence, that a more stringent standard is technologically feasible and economically justified and would result in significant additional energy conservation. 42 U.S.C. 6313(a)(6)(A).

If the Secretary elects to publish such a rule, it must contain the amended standard, and the determination must consider, to the greatest extent practicable: the economic impact on the manufacturers and consumers of the affected products; savings in operating cost throughout the life of the product, compared to any increases in initial cost or maintenance expense; the total projected amount of energy savings likely to result directly from the imposition of the standard; any lessening of the utility or performance of the affected products; the impact of any lessening of competition; the need for national energy conservation; and other factors the Secretary considers relevant. The Secretary may not prescribe such an amended standard if (s)he finds (and publishes the finding) that interested persons have established by a preponderance of evidence that the amended standard is likely to result in unavailability in the United States of products with performance characteristics (including reliability), features, sizes, capacities and volumes that are substantially the same as those generally available in the United States at the time of the Secretary's finding. 42 U.S.C. 6313(a)(6)(B).

Finally, the Secretary may not prescribe any amended standard which increases maximum allowable energy use or decreases minimum required energy efficiency. 42 U.S.C. 6313(a)(6)(B)(ii).

B. Background

1. General

As directed by Part B of Title III of EPCA, the Department of Energy has established an energy conservation program for consumer products, and certain commercial lighting products. 42 U.S.C. 6291-6309. This program consists of four principal parts: test procedures, Federal energy conservation standards, labeling, and certification and enforcement procedures. The Federal Trade Commission (FTC) is responsible for labeling, and the Department implements the remainder of the program as codified in Title 10 of the Code of Federal Regulations (CFR), Part 430—Energy Conservation Program for Consumer Products.

Pursuant to the EPACT amendments to EPCA in 1992, DOE extended its program to cover commercial and industrial equipment and created a new Part 431 in Title 10 of the Code of Federal Regulations, entitled, “Energy Conservation Program for Commercial and Industrial Equipment.” This part includes commercial heating, air conditioning and water heating equipment. The new program consists of: test procedures, Federal energy conservation standards, labeling, certification and enforcement procedures. EPCA directs the Department, rather than the FTC, to administer the statute's efficiency labeling provisions under the new program.

2. ASHRAE Action

On June 24, 1999, ASHRAE's Board of Directors provisionally approved revisions to ASHRAE/IES Standard 90.1, subject to a formal appeal process. Four appeals were filed, and an Appeals Hearing was held on October 9, 1999. The Appeals Panel recommended that the appeals be dismissed, and the ASHRAE Board approved the Appeals Panel report in a special meeting on October 29, 1999, thus concluding ASHRAE's process for amending the Standard. The Standard indicates that its commercial HVAC and water heater equipment efficiencies will become effective as part of the Standard two years after final ASHRAE approval (i.e., on October 29, 2001).

ASHRAE changed the efficiency standards for some products but not for all. Of those products for which standards did not change, some levels were considered by ASHRAE in the course of revising ASHRAE/IES Standard 90.1 but left at their preexisting values, while consideration of other products was deferred. The deferred products include standards for commercial (3-phase) small air conditioners and heat pumps (under 65 thousand Btu per hour), which are closely related to consumer products for which the Department is developing standards under NAECA. The standard levels in EPCA and ASHRAE/IES Standard 90.1-1999 appear in Tables 1 and 2.

Table 1.—EPCA and ASHRAE 90.1-1999 Standard Levels for Air Conditioners and Heat Pumps
Equipment category | Equipment subcategory | EPCA section | Efficiency levels: EPCA | Efficiency levels: ASHRAE 90.1-1999
Small Commercial Packaged Air Conditioning and Heating Equipment | AC/HP <65 kBtu/h Air Cooled 3 Phase, Central Split System | Cooling Eff. 342(a)(1)(A) Heating Eff. 342(a)(1)(D) | SEER 10.0 HSPF 6.8 | SEER 10.0 HSPF 6.8
| AC/HP <65 kBtu/h Air Cooled 3 Phase, Central Single Package | Cooling Eff. 342(a)(1)(B) Heating Eff. 342(a)(1)(E) | SEER 9.7 HSPF 6.6 | SEER 9.7 HSPF 6.6
| AC/HP 65-135 kBtu/h Air Cooled Central | Cooling Eff. 342(a)(1)(C) Heating Eff. 342(a)(1)(F) | EER 8.9 COP 3.0 | EER 10.3 COP 3.2 |  | AC/HP <65 kBtu/h Water Cooled Evap. Cooled Water-Source Central | Cooling Eff. 342(a)(1)(G) Heating Eff. Water-Source only 342(a)(1)(I) | EER 9.3 COP 3.8 | EER 12.1 COP 4.2 |  | AC/HP 65-135 kBtu/h Water Cooled Evap. Cooled Water-Source Central | Cooling Eff. 342(a)(1)(H) Heating Eff. Water-Source only 342(a)(1)(I) | EER 10.5 COP 3.8 | EER 11.5 COP 4.2
Large Commercial Packaged Air Conditioning and Heating Equipment | AC/HP 135-240 kBtu/h Air Cooled Central | Cooling Eff. 342(a)(2)(A) Heating Eff. 342(a)(2)(B) | EER 8.5 COP 2.9 | EER 9.7 COP 3.1 |  | AC/HP 135-240 kBtu/h Water Cooled Evap. Cooled Central | Cooling Eff. 342(a)(2)(A) No Heating Eff. Requirement | EER 9.6 | EER 11.0
Packaged Terminal Air Conditioners and Heat Pumps | PTAC/PTHP (Air Cooled) | Cooling Eff. 342(a)(3)(A) Heating Eff. 342(a)(3)(B) | EER varies by capacity COP varies by capacity | EER and COP vary by capacity (different formulas)
Notes: SEER—Seasonal Energy Efficiency Ratio
HSPF—Heating Seasonal Performance Factor
EER—Energy Efficiency Ratio
COP—Coefficient Of Performance
AC—Air Conditioner
HP—Heat Pump
PTAC—Package Terminal Air Conditioner
PTHP—Package Terminal Heat Pump

Table 2.—EPCA and ASHRAE 90.1-1999 Standard Levels for Furnaces, Boilers, and Storage Water Heaters
Equipment category | Equipment subcategory | EPCA section | Efficiency levels: EPCA | Efficiency levels: ASHRAE 90.1-1999
Warm Air Furnaces | ≥225,000 Btu/h | 342(a)(4)(A) | Thermal Efficiency 80% Gas 81% Oil | Thermal Efficiency 80% Gas 81% Oil. | Package Boilers | ≥300,000 Btu/h Gas Fired Oil Fired | Gas-fired Eff. 342(a)(4)(C) Oil Fired Eff. 342(a)(4)(D) | Combustion Efficiency 80% Gas 83% Oil | Combustion Efficiency. 80% Gas 83% Oil.
Storage Water Heaters | Electric | Standby Loss 342(a)(5)(A) | 0.3 + 27/Va | 20 + 35 √V. |  | ≤155,000 Btu/h and V≤ 40 gal | Thermal Eff. and Standby Loss 342(a)(5)(B) | Thermal Eff. 78% Standby Loss Varies by Volume | Thermal Eff. 80% Standby Loss Varies by Volume. |  | >155,000 Btu/h and V>140 gal | Thermal Eff. and Standby Loss 342(a)(5)(C) | Thermal Eff. 78% Standby Loss Varies by Volume | Thermal Eff. 80% Standby Loss Varies by Volume.
Instantaneous Water Heaters | V<10 gal Instantaneous | Thermal Eff. 342(a)(5)(D) | Thermal Eff. 80% | Thermal Eff. 80%.
| 10 gal < V < 140 gal Instantaneous | Thermal Eff. and Standby Loss 342(a)(5)(E) | Thermal Eff. 77% Standby Loss Varies by Volume | Thermal Eff. 80% Standby Loss Varies by Volume.
Storage Tanks | V ≤140 gal Unfired | Heat Loss 342(a)(5)(F) | Heat Loss 6.5 Btu/hr/ft ² | Heat Loss 6.5 Btu/hr/ft ².
| Storage Water Heaters and Storage Tanks >140 gal | Prescriptive 342(a)(5)(G) | R-12.5, IID | R-12.5, IID.

3. Department of Energy Response

In response to ASHRAE's action, the Department initiated a Screening Analysis to aid the Department in deciding what action it should take at this point with respect to the efficiency levels in ASHRAE/IES Standard 90.1-1999. The Screening Analysis report is available as discussed above. See “Addresses.”

After receiving comments in response to this Announcement, the Department expects to pursue, for each product category, one of four courses of action:

• Adopt the ASHRAE/IES Standard 90.1-1999 efficiency level as a uniform national standard;

• Reject the ASHRAE/IES Standard 90.1-1999 efficiency level if it increases maximum allowable energy use or decreases minimum required efficiency;

• Propose consideration of an addendum to ASHRAE/IES Standard 90.1-1999 if ASHRAE did not consider a more efficient level, and a more efficient level appears warranted; or

• Propose consideration of an addendum to ASHRAE/IES Standard 90.1-1999 and undertake a more thorough evaluation to determine whether a rulemaking is justified, if ASHRAE considered amending or amended the standard, and a more efficient level appears warranted than is contained in ASHRAE/IES Standard 90.1-1999.

After consideration of comments received on the notice and analysis, we expect to issue a final rule adopting as minimum national standards the updated ASHRAE 90.1-1999 standards for some or all of the commercial product categories listed in Sections II-B and C of this notice as candidates for immediate adoption. We intend to issue another notice for comment if, based on the comments received or further analysis, we conclude that ASHRAE 90.1-1999 standards should be adopted for any additional products.

II. Discussion

A. Screening Analysis Results

In conducting the Screening Analysis, the Department used existing data from industry and other sources, including, among others, analysis performed for ASHRAE in support of its deliberations over the new ASHRAE/IES Standard 90.1-1999 efficiency levels. For each product category, the Department estimated the likely cost of achieving several higher technologically feasible efficiency levels and then calculated for each such level the corresponding rate of energy consumption required to fulfill the product's function. Applying appropriate climate data, typical building design characteristics, inventories of buildings in different regions of the country, equipment sales volumes, and economic discount rates and energy prices, DOE computed cost/benefit measures corresponding to the hypothetical efficiency levels and also estimated the nationwide energy and net cost savings, if any, that would result from more stringent standards than the levels in ASHRAE/IES Standard 90.1-1999.

For the products analyzed, the Department examined the range of efficiency levels specified in EPCA and ASHRAE/IES Standard 90.1-1999, as well as more efficient levels, including those associated with the most efficient product now available in the market and with the lowest life-cycle cost. For each level above the EPCA standard, DOE estimated: (1) The incremental national energy and carbon emission savings that would result from a standard set at that level, and (2) the net nationwide direct economic benefit, represented by the net present value (NPV), that would result from a standard set at that level, as compared to the corresponding ASHRAE/IES Standard 90.1-1999 and EPCA standards.

Table 3 lists the products studied in the Screening Analysis, and shows for each the efficiency level that corresponds to the product's lowest average life-cycle cost, taking into account both the costs of efficiency improvements and the savings from reduced energy consumption. In addition, where that efficiency level is above the level specified for the product in ASHRAE/IES Standard 90.1-1999, Table 3 shows the following potential benefits that would result over the period from 2004 to 2030 from setting a standard at the higher level:

• The estimated nationwide energy savings, measured in trillions of Btu (TBtu);

• The estimated net nationwide direct economic benefit, represented by the net present value (NPV); and

• The estimated reductions in atmospheric carbon emissions, in millions of tons.

Table 3.—Energy Savings, Net Present Value and Carbon Emissions Reductions at the Energy Efficiency Levels with the Lowest Life-Cycle-Cost
Product category | Efficiency level at minimum life-cycle cost | Relative to ASHRAE 90.1-1999: National energy savings (TBtu) | Relative to ASHRAE 90.1-1999: National total NPV (millions of 1998 $'s) | Relative to ASHRAE 90.1-1999: National carbon emission reductions (million tons)
3-Phase Single Package Air Source AC <65 kBtu/h | 12.0 | 1,412.7 | 897.7 | 21
Central Air Source AC 135-240 kBtu/h | 10.4 | 428.8 | 417.9 | 6
Packaged Terminal Air Conditioners | 10.5 | 311.7 | 274.7 | 5
3-Phase Split Air Source AC <65 kBtu/h | 11.0 | 278.6 | 109.1 | 4
Packaged Terminal Heat Pumps | 9.9 | 249.0 | 241.9 | 4
Small Gas-Fired Boilers ≤2.5 mmBtu | 78.7% | 200.0 | 146.0 | 3
3-Phase Single Package Air Source HP <65 kBtu/h | 12.0 | 183.6 | 91.3 | 3
Tankless Gas Instantaneous Water Heaters | 81.5% | 102.0 | 45.3 | 2
Large Gas-Fired Boilers 2.5 mmBtu | *85.3% | 79.0 | 86.6 | 1
3-Phase Split Air Source HP <65 kBtu/h | 12.0 | 66.4 | 47.0 | 1
Central, Water Source HP 17-65 kBtu/h | 12.5 | 65.0 | 23.0 | 1
Central Air Source HP 135-240 kBtu/h | 10.4 | 31.4 | 3.2 | 1
Electric Water Heater (120 gal) | 1.0 | 6.6 | 1.1 | 0
Central Water Cooled AC 65-135 kBtu/h | 12.4 | 2.7 | 0.8 | 0
Central Water Cooled AC 135-240 kBtu/h | 11.5 | 2.5 | 3.0 | 0
Central Air Source AC 65-135 kBtu/h | 10.3 | 0.0 | 0.0 | 0
Central Air Source HP 65-135 kBtu/h | 10.1 | 0.0 | 0.0 | 0
Central Water Cooled AC <65 kBtu/h | 12.1 | 0.0 | 0.0 | 0
Central Water Source HP <17 kBtu/h | 11.2 | 0.0 | 0.0 | 0
Central Water Source HP 65-135 kBtu/h | 12.0 | 0.0 | 0.0 | 0
Gas-Fired Warm Air Furnaces ≥225 kBtu/h | 77.5% | 0.0 | 0.0 | 0
Gas Storage Water Heaters ≤155 kBtu/h | 80.0% | 0.0 | 0.0 | 0
Gas Storage Water Heaters >155 kBtu/h | 80.4% | 0.0 | 0.0 | 0
Instantaneous Gas Water Heaters with Tanks | 80.0% | 0.0 | 0.0 | 0
*Efficiency shown is shipment-averaged value of Large Steam Boilers (76%-81%), and Large Hot Water Boilers (78%-88%)

When Table 3 shows a zero for a product in all three of these categories, the efficiency level that corresponds with the product's lowest average life cycle cost is the same as the level specified in ASHRAE/IES Standard 90.1-1999.

B. DOE Interpretation

Of the products included in the Screening Analysis, DOE believes the following appear not to warrant standards that are more stringent than those in ASHRAE/IES Standard 90.1-1999. DOE considers the ASHRAE/IES Standard 90.1-1999 efficiency levels for these products to be appropriate candidates for immediate adoption as uniform national standards.

• Central Water Source Heat Pumps, 17 kBtu/h—65 kBtu/h

• Central Water Cooled Air Conditioners, 65 kBtu/h—135 kBtu/h

• Central Water Cooled Air Conditioners, 135 kBtu/h—240 kBtu/h

• Central Air Source Air Conditioners, 65 kBtu/h—135 kBtu/h

• Central Air Source Heat Pumps, 65 kBtu/h—135 kBtu/h

• Central Water Cooled Air Conditioners, <65 kBtu/h

• Central Water Source Heat Pumps, <17 kBtu/h

• Central Water Source Heat Pumps, 65 kBtu/h—135 kBtu/h

• Gas-Fired Warm Air Furnaces, ≥225 kBtu/h

• Gas Storage Water Heaters, ≤155 kBtu/h

• Gas Storage Water Heaters, >155 kBtu/h

• Gas Instantaneous Water Heaters with Tanks

In all except the first three of the above product categories, the ASHRAE/IES Standard 90.1-1999 efficiency levels are the same as the levels identified in the Screening Analysis as achieving the lowest life-cycle costs. For the central water-source heat pumps between 17 and 65 thousand Btu/hour, and the two sizes of central water-cooled air conditioners between 65 and 240 thousand Btu/hour, the efficiency levels corresponding to minimum life-cycle cost are slightly higher than ASHRAE's, but the total estimated cumulative energy savings that would be achieved cost-effectively by adopting the three higher levels would amount to only 70 trillion Btu between 2004 and 2030. This compares with 2.4 quadrillion Btu in nationwide savings over that period that DOE expects as a result of the changes from the standards embodied in EPACT for the twelve product categories listed above to those contained in ASHRAE/IES Standard 90.1-1999.

Of the remainder, for four categories of 3-phase air conditioners and heat pumps with capacities under 65,000 Btu per hour, the Screening Analysis indicates that efficiency standards higher than those in ASHRAE/IES Standard 90.1-1999 might well have significant energy savings potential and economic benefits. Adopting the efficiency levels corresponding to the lowest average life-cycle cost for all four of these product categories would result in estimated cost-effective nationwide cumulative energy savings of 1.9 quadrillion Btu between 2004 and 2030. However, these products were not addressed by ASHRAE in revising Standard 90.1, and DOE has tentatively decided not to take action to adopt a standard at this time with respect to these products. Based on the Screening Analysis, DOE is inclined to encourage ASHRAE to consider adoption of an addendum to ASHRAE Standard 90.1-1999 and will support ASHRAE in its future deliberations concerning these products in conjunction with ongoing development of NAECA standards for similar, but single phase, residential equipment. Should ASHRAE amend the efficiency standards for these air conditioners or heat pumps in the future, DOE will then act on such amendments as required by EPCA. The four categories of 3-phase air conditioners and heat pumps with capacities under 65,000 Btu per hour are:

• 3-phase Single Package Air Source Air Conditioners, <65 kBtu/h;

• 3-phase Split Air Source Air Conditioners, <65 kBtu/h;

• 3-phase Single Package Air Source Heat Pumps, <65 kBtu/h; and

• 3-phase Split System Air Source Heat Pumps, <65 kBtu/h.

For seven of the eight remaining product categories analyzed in the Screening Analysis, ASHRAE amended the efficiency standards contained in ASHRAE/IES Standard 90.1, but there appear to be significant, cost-effective energy savings that might result from standards that are even more stringent. Adopting efficiency levels corresponding to minimum average product life-cycle cost for all seven of these categories would cost-effectively produce estimated cumulative energy savings amounting to 1.4 quadrillion Btu over the period from 2004 to 2030. These savings would more than double the 1.1 quadrillion Btu over the same period that DOE anticipates as a result of the corresponding amendments already contained in ASHRAE/IES Standard 90.1-1999. For each of these products, DOE is inclined to propose consideration of an addendum to ASHRAE/IES Standard 90.1-1999, based on the Screening Analysis, and to undertake a more thorough evaluation to determine whether a rulemaking is justified under the terms of EPCA. These products are the following:

• Central air-source air conditioners, 135 kBtu/h—240 kBtu/h;

• Central air-source heat pumps, 135 kBtu/h—240 kBtu/h;

• Packaged terminal air conditioners;

• Packaged terminal heat pumps;

• Small gas-fired steam and hot water boilers, 0.3 MMBtu/h—2.5 MMBtu/h; and

• Large gas-fired steam and hot water boilers, > 2.5 MMBtu/h.

• Tankless Gas Instantaneous Water Heaters

For one product category, electric water heaters, the new efficiency level in ASHRAE/IES Standard 90.1-1999 appears to increase energy consumption relative to the standard in EPCA. If this is true, the original standard should remain in force, since EPCA stipulates that the standards it contains cannot be relaxed. Therefore, DOE is inclined not to adopt the requirement in ASHRAE/IES Standard 90.1-1999 for this product.

C. Products Not Included in the Screening Analysis

Several commercial products were not analyzed in the Screening Analysis:

• Central Air Source Heat Pumps, 135 kBtu/h—240 kBtu/h (heating performance)

• Central Air Source Heat Pumps, 65 kBtu/h—135 kBtu/h (heating performance)

• 3-Phase Single Package Air Source Heat Pumps, <65 kBtu/h (heating performance)

• 3-Phase Split Air Source Heat Pumps, <65 kBtu/h (heating performance)

• Packaged Terminal Heat Pumps (heating performance)

• Central Water Source Heat Pumps, <135 kBtu/h (heating performance)

• Water Source Heat Pumps, 135 kBtu/h—240 kBtu/h

• Evaporatively Cooled Air Conditioning Products

• Oil-Fired Warm Air Furnaces, ≥225 kBtu/h

• Oil-Fired Storage Water Heaters, ≤155 kBtu/h

• Oil-Fired Storage Water Heaters, >155 kBtu/h

• Tankless Oil-Fired Instantaneous Water Heaters

• Oil-Fired Instantaneous Water Heaters with Tanks

• Small Oil-Fired Steam and Hot Water Boilers, 0.3 MMBtu/h-2.5 MMBtu/h

• Large Oil-Fired Steam and Hot Water Boilers, >2.5 MMBtu/h

• Unfired hot water storage tanks

DOE did not include these products in the Screening Analysis because of insufficient data describing baseline energy consumption and cost-efficiency relationships, small markets for the products in question or lack of product shipment data, or in the case of the heating performance of heat pumps, the absence of a suitable methodology to discriminate their heating function from that of supplemental heat sources with which they are often used.

The products and performance characteristics that were not analyzed in detail fall into groups as follows:

• Heating coefficients of performance (COP) and heating seasonal performance factors (HSPF) for all heat pump product categories;

• Efficiencies of water-cooled air conditioners and heat pumps with capacities between 65 kBtu/h and 135 kBtu/h;

• Evaporatively cooled air-conditioning products;

• Oil-fired warm air furnaces, storage and instantaneous water heaters, and packaged boilers; and

• Unfired hot water storage tanks

DOE believes that the water-cooled and evaporatively cooled air conditioning products, oil-fired warm air furnaces and water heaters, and unfired hot water storage tanks have small markets and are unlikely to represent significant potential energy savings, so the Department plans to adopt ASHRAE/IES Standard 90.1-1999 standards for these products. Since the heating COP is closely related to cooling efficiency for heat pumps, DOE does not plan to adopt yet the heating COP levels contained in ASHRAE/IES Standard 90.1-1999 for: (1) three-phase heat pumps with capacities under 65 thousand Btu per hour, which ASHRAE did not address in formulating Standard 90.1-1999; (2) central air-source heat pumps with capacities between 135 thousand and 240 thousand Btu per hour, which would be the subject of further analysis with respect to cooling as a result of the Screening Analysis; and (3) packaged terminal heat pumps, which also would be the subject of further analysis of their cooling performance. For all other heat pumps covered by EPCA, DOE considers the amended ASHRAE/IES Standard 90.1-1999 COP levels to be appropriate candidates for immediate adoption as uniform national standards. Finally, DOE recognizes that ASHRAE did not evaluate the efficiency levels for packaged oil-fired boilers explicitly, and the published values in ASHRAE/IES Standard 90.1-1999 were tied to the corresponding efficiencies for gas-fired boilers. Since DOE is inclined to evaluate the gas-fired boilers as a result of the Screening Analysis, the Department also anticipates waiting for that evaluation to be complete before adopting efficiency standards for the equivalent oil-fired products.

D. Summary

Table 4 summarizes the actions DOE is inclined to take for all of the product categories in light of the Screening Analysis.

Table 4.—Planned DOE Actions
Product category | Action
3-Phase Single Package Air Source AC <65 kBtu/h | Encourage ASHRAE/IES Addendum
Central Air Source AC 135-240 kBtu/h | Evaluate Further/Encourage ASHRAE/IES Addendum
Packaged Terminal Air Conditioners | Evaluate Further/Encourage ASHRAE/IES Addendum
3-Phase Split Air Source AC <65 kBtu/h | Encourage ASHRAE/IES Addendum
Packaged Terminal Heat Pumps | Evaluate Further/Encourage ASHRAE/IES Addendum
Small Gas-Fired Boilers 0.3-2.5 MMBtu/h | Evaluate Further/Encourage ASHRAE/IES Addendum
3-Phase Single Package Air Source HP <65 kBtu/h | Encourage ASHRAE/IES Addendum
Tankless Gas-Fired Instantaneous Water Heaters | Evaluate Further/Encourage ASHRAE/IES Addendum
Large Gas-Fired Boilers >2.5MMBtu | Evaluate Further/Encourage ASHRAE/IES Addendum
3-Phase Split Air Source HP <65 kBtu/h | Encourage ASHRAE/IES Addendum
Central, Water Source HP 17-65 kBtu/h | Adopt ASHRAE/IES Standard 90.1-1999
Central Air Source HP 135-240 kBtu/h | Evaluate Further/Encourage ASHRAE/IES Addendum
Electric Water Heater | Leave EPCA Standard in Force
Central Water Cooled AC 65-135 kBtu/h | Adopt ASHRAE/IES Standard 90.1-1999
Central Water Cooled AC 135-240 kBtu/h | Adopt ASHRAE/IES Standard 90.1-1999
Central Air Source AC 65-135 kBtu/h | Adopt ASHRAE/IES Standard 90.1-1999
Central Air Source HP 65-135 kBtu/h | Adopt ASHRAE/IES Standard 90.1-1999
Central Water Cooled AC <65 kBtu/h | Adopt ASHRAE/IES Standard 90.1-1999
Central Water Source HP <17 kBtu/h | Adopt ASHRAE/IES Standard 90.1-1999
Central Water Source HP 65-135 kBtu/h | Adopt ASHRAE/IES Standard 90.1-1999
Gas-Fired Warm Air Furnaces ≥225 kBtu/h | Adopt ASHRAE/IES Standard 90.1-1999
Gas Storage Water Heaters ≤155 kBtu/h | Adopt ASHRAE/IES Standard 90.1-1999
Gas Storage Water Heaters >155 kBtu/h | Adopt ASHRAE/IES Standard 90.1-1999
Gas-Fired Instantaneous Water Heaters with Tank | Adopt ASHRAE/IES Standard 90.1-1999
Water Source HP, 135-240 kBtu/h | Adopt ASHRAE/IES Standard 90.1-1999
Evaporatively Cooled AC Products | Adopt ASHRAE/IES Standard 90.1-1999
Oil-Fired Warm Air Furnaces, ≥225 kBtu/h | Adopt ASHRAE/IES Standard 90.1-1999
Oil-Fired Storage Water Heaters, ≤155 kBtu/h | Adopt ASHRAE/IES Standard 90.1-1999
Oil-Fired Storage Water Heaters, >155 kBtu/h | Adopt ASHRAE/IES Standard 90.1-1999
Tankless Oil-Fired Instantaneous Water Heaters | Adopt ASHRAE/IES Standard 90.1-1999
Oil-Fired Instantaneous Water Heaters with Tanks | Adopt ASHRAE/IES Standard 90.1-1999
Small Oil-Fired Boilers, 0.3-2.5 MMBtu/h | Evaluate Further (with Gas-Fired Boilers)
Large Oil-Fired Boilers, >2.5 MMBtu/h | Evaluate Further (with Gas-Fired Boilers)
Unfired Hot Water Storage Tanks | Adopt ASHRAE/IES Standard 90.1-1999

Nationwide, the effect of replacing EPCA efficiency levels for the product categories included in the Screening Analysis with those contained in ASHRAE/IES Standard 90.1-1999 would be to save an estimated 3.5 quadrillion Btu between 2004 and 2030 and to reduce carbon emissions into the atmosphere by approximately 51 million tons over the same period. DOE plans not to adopt the ASHRAE/IES Standard 90.1-1999 efficiency levels for twelve of these product categories. If DOE were to adopt standards corresponding to minimum life-cycle costs for the twelve categories, the additional energy savings would amount to 3.4 quadrillion Btu, and carbon emissions would further decrease by 49 million tons. The present value of the associated net cost savings would be $2.4 billion.

III. Public Comment

A. Written Comment Procedures

The Department invites interested persons to submit data, comments, or information with respect to the subjects addressed in this notice to Ms. Brenda Edwards-Jones, at the address indicated at the beginning of the notice. The Department will consider all submissions received by the date specified at the beginning of this notice in deciding on the disposition of amended standards.

Under the provisions of 10 CFR 1004.11, any person submitting information which he or she believes to be confidential and exempt by law from public disclosure should submit one complete copy of the document and ten (10) copies, if possible, from which the information believed to be confidential has been deleted. The Department of Energy will make its own determination with regard to the confidential status of the information and treat it according to its determination.

Factors of interest to the Department when evaluating requests to treat as confidential information that has been submitted include: (1) A description of the items; (2) an indication as to whether and why such items are customarily treated as confidential within the industry; (3) whether the information is generally known by or available from other sources; (4) whether the information has previously been made available to others without obligation concerning its confidentiality; (5) an explanation of the competitive injury to the submitting person which would result from public disclosure; (6) an indication as to when such information might lose its confidential character due to the passage of time; and (7) why disclosure of the information would be contrary to the public interest.

B. Issues on Which Comments Are Requested

The Department is particularly interested in receiving comments and views of interested parties concerning: (1) The analysis contained in the Screening Analysis report announced in this notice, (2) DOE's interpretation of the results, (3) DOE's planned treatment of product categories not included in the Analysis, and (4) information or evidence that bears on the adoption of ASHRAE/IES Standard 90.1-1999 efficiency levels as uniform national standards under the terms of EPCA. The Department encourages those who wish to offer comments to obtain the Screening Analysis report and to address its contents. However, respondents need not limit their statements to the topics covered in the study, as the Department is interested in receiving views concerning any other issues that participants believe would affect the suitability of ASHRAE/IES Standard 90.1-1999 efficiency standards for commercial water heaters, boilers, furnaces, air conditioners and heat pumps. For example, comments might include additional evidence, not uncovered in the Screening Analysis, bearing on the technological feasibility and economic justification of more stringent uniform national standards than those in ASHRAE/IES Standard 90.1-1999 and on the significance of the energy conservation that would result from adopting them. Comments might also include evidence as to whether any standards more stringent than the ones specified in ASHRAE/IES Standard 90.1-1999 are likely to result in unavailability in the United States of products with performance characteristics (including reliability), features, sizes, capacities and volumes that are substantially the same as those generally available in the United States now.

After the period for written comments, the Department will consider the views submitted in formulating rules regarding uniform energy efficiency standards for commercial water heaters, boilers, furnaces, air conditioners and heat pumps.

C. Public Workshop

1. Procedure for Submitting Requests To Speak

You will find the time and place of the public workshop listed at the beginning of this notice. We invite any person who has an interest in today's notice, or who is a representative of a group or class of persons that has an interest in these issues, to request an opportunity to make an oral presentation. If you would like to attend the public workshop, please notify Ms. Brenda Edwards-Jones at (202) 586-2945. You may hand deliver requests to speak to the address indicated at the beginning of this notice between the hours of 8:00 a.m. and 4:00 p.m., Monday through Friday, except Federal holidays, or you may send them by mail.

The person making the request should state why he or she, either individually or as a representative of a group or class of persons, is an appropriate spokesperson; briefly describe the nature of the interest in the proceeding; and provide a telephone number for contact. We request each person selected to be heard to submit an advance copy of his or her statement at least one week prior to the date of this workshop as indicated at the beginning of this notice. We, at our discretion, may permit any person wishing to speak who cannot meet this requirement to participate if that person has made alternative arrangements with the Office of Building Research and Standards in advance. The letter making a request to give an oral presentation must ask for such alternative arrangements.

2. Conduct of Workshop

We will conduct the workshop in an informal, conference style. We may use a professional facilitator to facilitate discussion, and a court reporter will record the transcript of the meeting. We will present summaries of comments received before the workshop, allow time for presentations by workshop participants, and encourage all interested parties to share their views on issues affecting this proceeding. The comment period closes on July 31, 2000 in order to allow interested parties an opportunity to comment on the matters raised at the workshop, as well as on any other aspect of the proceeding. The public workshop agenda is expected to cover the topics listed in the preceding Section III. B., Issues on Which Comments Are Requested.

We will arrange for a transcript of the workshop and will make the entire record of this proceeding, including the transcript, available for inspection in the Department's Freedom of Information Reading Room. Any person may purchase a copy of the transcript from the transcribing reporter.

Issued in Washington, DC, on May 8, 2000.
Dan W. Reicher,
Assistant Secretary, Energy Efficiency and Renewable Energy.

[FR Doc. 00-12112 Filed 5-12-00; 8:45 am]

BILLING CODE 6450-01-P